DEPARTMENT OF ENERGY

Federal Energy Regulatory Commission

[Docket No. EL07-30-000]

Newark Bay Cogeneration Partnership, L.P., Complainant v. PJM Interconnection, L.L.C. Public Service Electric and Gas Company, Respondent; Notice Shortening Comment Period

January 12, 2007.

On January 9, 2007, the Commission issued a Notice of Complaint in the above-docketed proceeding. The notice established a period for filing protests or motions to intervene in response to this complaint.

By this notice, the date for filing motions to intervene or protests is shortened to and including January 22, 2007.

Magalie R. Salas,
Secretary.

[FR Doc. E7-791 Filed 1-19-07; 8:45 am]

BILLING CODE 6717-01-P